DEPARTMENT OF LABOR

Employment and Training Administration

[TA-W-53,920]

Eaton Corp., Airflex Division, Cleveland, OH; Notice of Termination of Investigation

Pursuant to section 221 of the Trade Act of 1974, as amended, an investigation was initiated on December 31, 2003, in response to a petition filed by PACE International Union local 5-0967 on behalf of workers at Eaton Corporation, Airflex Division, Cleveland, Ohio.

The petitioner has requested that the petition be withdrawn. Consequently, the investigation has been terminated.

Signed at Washington, DC, this 12th day of January, 2004.
Linda G. Poole,
Certifying Officer, Division of Trade Adjustment Assistance.

[FR Doc. 04-2611 Filed 2-5-04; 8:45 am]

BILLING CODE 4510-30-P